DEPARTMENT OF HEALTH AND HUMAN SERVICES

Office of the Secretary

45 CFR Parts 160 and 164

RIN 0945-AA00

Modifications to the HIPAA Privacy Rule to Support, and Remove Barriers to, Coordinated Care and Individual Engagement

AGENCY: Office for Civil Rights (OCR), Office of the Secretary, HHS.

ACTION: Proposed rule; extension of comment period.

SUMMARY: The Department of Health and Human Services (the Department) is extending the comment period for the proposed rule entitled “Proposed Rulemaking (NPRM) to modify the Standards for the Privacy of Individually Identifiable Health Information (Privacy Rule) under the Health Insurance Portability and Accountability Act of 1996 (HIPAA) and the Health Information Technology for Economic and Clinical Health Act of 2009 (HITECH Act),” published in the Federal Register on January 21, 2021. The comment period for the proposed rule, which would end March 22, 2021, is extended to May 6, 2021.

DATES: The comment period for this proposed rule published January 21, 2021, at 86 FR 6446, is extended to 5 p.m., eastern daylight time, on May 6, 2021.

ADDRESSES: You may submit comments as outlined in the proposed rule at 86 FR 6446 and repeated below. Please choose only one method listed.

You may submit comments to this proposed rule, identified by RIN 0945-AA00 by any of the following methods:

• Federal eRulemaking Portal. You may submit electronic comments at http://www.regulations.gov by searching for the Docket ID number HHS-OCR-0945-AA00. Follow the instructions http://www.regulations.gov online for submitting comments through this method.

• Regular, Express, or Overnight Mail: You may mail comments to U.S. Department of Health and Human Services, Office for Civil Rights, Attention: Proposed Modifications to the HIPAA Privacy Rule to Support, and Remove Barriers to, Coordinated Care and Individual Engagement NPRM, RIN 0945-AA00, Hubert H. Humphrey Building, Room 509F, 200 Independence Avenue SW, Washington, DC 20201.

All comments received by the methods and due date specified above will be posted without change to content to http://www.regulations.gov, including any personal information provided about the commenter, and such posting may occur before or after the closing of the comment period.

The Department will consider all comments received by the date and time specified in the DATES section above, but, because of the large number of public comments normally received on Federal Register documents, the Department is not able to provide individual acknowledgments of receipt.

Please allow sufficient time for mailed comments to be timely received in the event of delivery or security delays. Electronic comments with attachments should be in Microsoft Word or Portable Document Format (PDF).

Please note that comments submitted by fax or email and those submitted after the comment period will not be accepted.

Docket: For complete access to background documents or posted comments, go to http://www.regulations.gov and search for Docket ID number HHS-OCR-0945-AA00.

FOR FURTHER INFORMATION CONTACT: Marissa Gordon-Nguyen at (800) 368-1019 or (800) 537-7697 (TDD).

SUPPLEMENTARY INFORMATION: The Department proposed a “Rulemaking (NPRM) to modify the Standards for the Privacy of Individually Identifiable Health Information (Privacy Rule) under the Health Insurance Portability and Accountability Act of 1996 (HIPAA) and the Health Information Technology for Economic and Clinical Health Act of 2009 (HITECH Act),” to solicit public comments on proposed modifications to the HIPAA Privacy Rule to support individuals' engagement in their health care, remove barriers to coordinated care, and decrease regulatory burdens on the health care industry while continuing to protect individuals' health information privacy interests. The Office of the Federal Register (OFR) posted the HIPAA NPRM on the Federal Register website for public inspection on January 19, 2021. OFR published the HIPAA NPRM in the Federal Register for public comment on January 21, 2021.

On January 20, 2021, the White House published a memorandum “Regulatory Freeze Pending Review” at https://www.whitehouse.gov/briefing-room/presidential-actions/2021/01/20/regulatory-freeze-pending-review/ (the Regulatory Freeze Memorandum). The Regulatory Freeze Memorandum directs the heads of Executive Departments and Agencies to refrain from issuing new proposed or final rules, to withdraw rules pending publication with OFR, and to consider postponing for 60 days from the date of the memorandum, the effective date of rules already published in the Federal Register. The purpose of the memorandum is to implement the President's plan to manage the Federal regulatory process at the outset of the Administration by providing the opportunity for the President's new designees or appointees to review all new and pending rules.

Because OFR published the HIPAA NPRM prior to the effective withdrawal of rules provided for in the memorandum, the HIPAA NPRM remains publicly available in the Federal Register and open for public comment. However, due to the proximity in time between the publication of the HIPAA NPRM and the Regulatory Freeze Memorandum, the public may need clarification that the HIPAA NPRM is available for public comment and additional time to review the proposals and submit comments.

Therefore, to maximize the opportunity for the public to provide meaningful input to inform policy development, the Department is extending the comment period to May 6, 2021.

Norris Cochran,
Acting Secretary, Department of Health and Human Services.

[FR Doc. 2021-05021 Filed 3-9-21; 8:45 am]

BILLING CODE 4153-01-P